DEPARTMENT OF THE INTERIOR

Bureau of Reclamation

California Bay-Delta Public Advisory Committee Public Meeting

AGENCY: Bureau of Reclamation, Interior.

ACTION: Notice of meeting.

SUMMARY: In accordance with the Federal Advisory Committee Act, the California Bay-Delta Public Advisory Committee will meet jointly with the California Bay-Delta Authority on December 8 and 9, 2004. The agenda for the joint meeting will include reports from the Lead Scientist and the Independent Science Board; a presentation on climate change by Dr. Dettinger and Francis Chung; an update on the California Water Plan, the Delta Improvements Package, and the Operations Criteria and Plan for the Central Valley Project and the State Water Project; and discussion and a possible recommendation on the 10-Year Finance Plan and the Annual Statement of Progress and Future Priorities for the CALFED Bay-Delta Program with State and Federal agency representatives.

DATES: The meeting will be held on Wednesday, December 8, 2004, from 9 a.m. to 4 p.m., and on Thursday, December 9, 2004, from 9 a.m. to 4 p.m. If reasonable accommodation is needed due to a disability, please contact Pauline Nevins at (916) 455-5511 or TDD (800) 735-2929 at least 1 week prior to the meeting.

ADDRESSES: The meeting will be held at the Sheraton Hotel in the Grand Ballroom, 1230 J Street, Sacramento, California.

FOR FURTHER INFORMATION CONTACT: Heidi Rooks, California Bay-Delta Authority, at (916) 445-5511, or Diane Buzzard, Bureau of Reclamation, at (916) 798-5022.

SUPPLEMENTARY INFORMATION: The Committee was established to provide recommendations to the Secretary of the Interior, other participating Federal agencies, the Governor of the State of California, and the California Bay-Delta Authority on implementation of the CALFED Bay-Delta Program. The Committee makes recommendations on annual priorities, integration of the eleven Program elements, and overall balancing of the four Program objectives of ecosystem restoration, water quality, levee system integrity, and water supply reliability. The Program is a consortium of State and Federal agencies with the mission to develop and implement a long-term comprehensive plan that will restore ecological health and improve water management for beneficial uses of the San Francisco/Sacramento and San Joaquin Bay Delta.

Committee and meeting materials will be available on the California Bay-Delta Authority Web site at http://calwater.ca.gov and at the meeting. This meeting is open to the public. Oral comments will be accepted from members of the public at the meeting and will be limited to 3-5 minutes.

(Authority: The Committee was established pursuant to the Department of the Interior's authority to implement the Fish and Wildlife Coordination Act, 16 U.S.C. 661 et seq., the Endangered Species Act, 16 U.S.C. 1531 et seq., and the Reclamation Act of 1902, 43 U.S.C. 371 et seq., and the acts amendatory thereof or supplementary thereto, all collectively referred to as the Federal Reclamation laws, and in particular, the Central Valley Project Improvement Act, Pub. L. 102-575.)

Dated: November 3, 2004.
Allan Oto,
Special Projects Officer, Mid-Pacific Region.

[FR Doc. 04-25666 Filed 11-17-04; 8:45 am]

BILLING CODE 4310-MN-M